DEPARTMENT OF THE INTERIOR

U.S. Geological Survey

Federal Interagency Steering Committee on Multimedia Environmental Modeling

AGENCY: U.S. Geological Survey (USGS), Department of Interior (DOI).

ACTION: Notice of open meeting.

SUMMARY: The annual public meeting of the Federal Interagency Steering Committee on Multimedia Environmental Modeling (ISCMEM) will convene to discuss some of the latest developments in environmental modeling applications, tools and frameworks, as well as new operational initiatives for FY 2011 among the participating agencies. The meeting this year will emphasize ecosystem modeling and monitoring.

Dates of Meeting: September 13-16, 2010.

Place: U.S. Army Engineer Research and Development Center, 3909 Halls Ferry Road, Vicksburg, Mississippi 39180.

Time: 8 a.m. to 5 p.m.

FOR FURTHER INFORMATION CONTACT: Inquiries and notice of intent to attend the meeting may be e-mailed to: Pierre D. Glynn, ISCMEM Chair, U.S. Geological Survey, National Research Program, Branch of Regional Research, Eastern Region, 12201 Sunrise Valley Drive, Mail Stop 432, Reston, VA 20192. TEL 703-648-5823. pglynn@usgs.gov.

SUPPLEMENTARY INFORMATION: Background: Nine Federal agencies have been cooperating under a Memorandum of Understanding (MOU) on the research and development of multimedia environmental models. The MOU, which was revised in 2006, continues an effort that began in 2001. It establishes a framework for facilitating cooperation and coordination among the following agencies (the specific research organization within the agency is in parentheses): National Science Foundation; U.S. Army Corps of Engineers (Engineer Research and Development Center); U.S. Department of Agriculture (Natural Resources Conservation Service); U.S. Department of Energy (Office of Biological and Environmental Research); U.S. Environmental Protection Agency; U.S. Geological Survey; U.S. National Oceanographic and Atmosphere Administration; U.S. Nuclear Regulatory Commission (Office of Nuclear Regulatory Research); and U.S. Bureau of Reclamation. These agencies are cooperating and coordinating in the research and development (R&D) of multimedia environmental models, software and related databases, including development, enhancements, applications and assessments of site specific, generic, and process-oriented multimedia environmental models as they pertain to human and environmental health risk assessment. Multimedia model development and simulation supports interagency interests in risk assessment, uncertainty analyses, water supply issues and contaminant transport.

Purpose of the Public Meeting: The annual public meeting and workshop provides an opportunity for the scientific community, other Federal and State agencies, and the public to be briefed on ISCMEM activities and their initiatives for the upcoming year, and to discuss technological advancements in multimedia environmental modeling.

Proposed Agenda: The ISCMEM Chair will open the meeting with a brief overview of the goals of the MOU and an update on current activities of ISCMEM. This introduction will be followed by a series of invited presentations starting on Tuesday morning, Sept. 14, and ending on Thursday afternoon, Sept. 16. ISCMEM members, presenters and active participants are also invited to visit the U.S. Army Corps of Engineers ERDC facility on the afternoon of Monday, Sept. 13. A detailed agenda with presentation titles and speakers will be posted on the MOU public Web site: http://www.environmental-modeling.org. The topics covered this year focus on (1) ecosystem modeling frameworks, (2) ecosystem monitoring and modeling, (3) ecosystem variability, reference states and modeling, and (4) incorporating climate change into ecosystem models. Other topics also include modeling frameworks, databases and cyberinfrastructure, community modeling efforts, parameter estimation, uncertainty and sensitivity analyses, optimization modeling, reactive transport modeling, and watershed and distributed water quality modeling.

Meeting Access: To obtain access to the ISCMEM September 13-16 meeting and workshop, all interested attendees will need to pre-register by e-mailing Marilyn Butler (Marilyn.L.Butler@usace.army.mil) and La Tisa Osbourne (losbourne@usgs.gov), indicating their intent to attend the meeting and providing their full contact information and affiliation. Attendees will also need to present a valid photo-identification card in order to enter the ERDC facility.

Pierre D. Glynn,
Chair, Federal Interagency Steering Committee on Multimedia Environmental Modeling.

[FR Doc. 2010-19910 Filed 8-11-10; 8:45 am]

BILLING CODE P